COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products from the Procurement List previously furnished by nonprofit agencies employing persons who are blind or have other severe disabilities.

EFFECTIVE DATE: 6/4/2017.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Deletions

On 4/7/2017 (82 FR 17000-17002), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

PRODUCTS

NSN(s)—Product Name(s): 6135-01-096-0330—Battery, Non-Rechargeable, Button, 1.55V, Silver Oxide

Mandatory Source(s) of Supply: Eastern Carolina Vocational Center (ECVC), Greenville, NC

Contracting Activity: Defense Logistics Agency Land and Maritime

NSN(s)—Product Name(s):

8415-01-536-4140—Cap, Utility, ABU, Air Force, Tiger Stripe Camouflage, 6½

8415-01-536-4144—Cap, Utility, ABU, Air Force, Tiger Stripe Camouflage, 6⅜

8415-01-536-4148—Cap, Utility, ABU, Air Force, Tiger Stripe Camouflage, 6⅝

8415-01-536-4152—Cap, Utility, ABU, Air Force, Tiger Stripe Camouflage, 6¾

8415-01-536-4181—Cap, Utility, ABU, Air Force, Tiger Stripe Camouflage, 6⅞

8415-01-536-4183—Cap, Utility, ABU, Air Force, Tiger Stripe Camouflage, 7

8415-01-536-4185—Cap, Utility, ABU, Air Force, Tiger Stripe Camouflage, 7⅛

8415-01-536-4212—Cap, Utility, ABU, Air Force, Tiger Stripe Camouflage, 7¼

8415-01-536-4218—Cap, Utility, ABU, Air Force, Tiger Stripe Camouflage, 7⅜

8415-01-536-4221—Cap, Utility, ABU, Air Force, Tiger Stripe Camouflage, 7½

8415-01-536-4223—Cap, Utility, ABU, Air Force, Tiger Stripe Camouflage, 7⅝

8415-01-536-4226—Cap, Utility, ABU, Air Force, Tiger Stripe Camouflage, 7¾

8415-01-536-4229—Cap, Utility, ABU, Air Force, Tiger Stripe Camouflage, 7⅞

8415-01-536-4233—Cap, Utility, ABU, Air Force, Tiger Stripe Camouflage, 8

8415-01-536-4236—Cap, Utility, ABU, Air Force, Tiger Stripe Camouflage, 8⅛

8415-01-536-4240—Cap, Utility, ABU, Air Force, Tiger Stripe Camouflage, 8¼

8415-01-536-4245—Cap, Utility, ABU, Air Force, Tiger Stripe Camouflage, 8⅜

8415-01-536-4248—Cap, Utility, ABU, Air Force, Tiger Stripe Camouflage, 8½

Mandatory Source(s) of Supply: Southeastern Kentucky Rehabilitation Industries, Inc., Corbin, KY

Contracting Activity: Defense Logistics Agency Troop Support

NSN(s)—Product Name(s):

8415-01-542-5438—Shirt, Level 1, ECWCS, PCU, Army, Long Sleeved, Brown, S

8415-01-542-5457—Shirt, Level 1, ECWCS, PCU, Army, Long Sleeved, Brown, XS

8415-01-542-5442—Shirt, Level 1, ECWCS, PCU, Army, Long Sleeved, Brown, M

8415-01-543-7062—Shirt, Level 1, ECWCS, PCU, Army, Long Sleeved, Brown, M-L

8415-01-542-5444—Shirt, Level 1, ECWCS, PCU, Army, Long Sleeved, Brown, L

8415-01-542-5446—Shirt, Level 1, ECWCS, PCU, Army, Long Sleeved, Brown, L-L

8415-01-542-5448—Shirt, Level 1, ECWCS, PCU, Army, Long Sleeved, Brown, XL

8415-01-542-5450—Shirt, Level 1, ECWCS, PCU, Army, Long Sleeved, Brown, XL-L

8415-01-542-5451—Shirt, Level 1, ECWCS, PCU, Army, Long Sleeved, Brown, XXL

8415-01-542-5459—Shirt, Level 1, ECWCS, PCU, Army, Long Sleeved, Brown, XXLL

8415-01-542-5461—Shirt, Level 1, ECWCS, PCU, Army, Long Sleeved, Brown, XXXL

8415-01-542-5464—Shirt, Level 1, ECWCS, PCU, Army, Long Sleeved, Brown, XXXLL

8415-01-542-5809—Trousers, ECWCS, Level 1, PCU, Army, Brown, XS

8415-01-542-5790—Trousers, ECWCS, Level 1, PCU, Army, Brown, S

8415-01-542-5792—Trousers, ECWCS, Level 1, PCU, Army, Brown, M

8415-01-543-7012—Trousers, ECWCS, Level 1, PCU, Army, Brown, M-L

8415-01-542-5794—Trousers, ECWCS, Level 1, PCU, Army, Brown, L

8415-01-542-5799—Trousers, ECWCS, Level 1, PCU, Army, Brown, L-L

8415-01-542-5801—Trousers, ECWCS, Level 1, PCU, Army, Brown, XL

8415-01-542-5806—Trousers, ECWCS, Level 1, PCU, Army, Brown, XL-L

8415-01-542-5810—Trousers, Cold Weather Level 1, ECWCS, PCU, Army, Brown, XXL

8415-01-542-5786—Trousers, ECWCS, Level 1, PCU, Army, Brown, XXLL

8415-01-543-0426—Trousers, Lightweight ECWCS Level 1, PCU, Army, Brown, XXXLL

8415-01-543-0423—Trousers, Lightweight Level 6, ECWCS, PCU, Army, Brown, XXXL

Mandatory Source(s) of Supply: Southeastern Kentucky Rehabilitation Industries, Inc., Corbin, KY

Contracting Activity: Army Contracting Command—Aberdeen Proving Ground, Natick Contracting Division

NSN(s)—Product Name(s):

8410-01-556-0054—Shirt, Tuck-in, Army, Women's, Long Sleeved, White, 4R

8410-01-556-0161—Shirt, Tuck-in, Army, Women's, Long Sleeved, White, 26L

8410-01-556-0059—Shirt, Tuck-in, Army, Women's, Long Sleeved, White, 8R

8410-01-556-0063—Shirt, Tuck-in, Army, Women's, Long Sleeved, White, 8L

8410-01-556-0070—Shirt, Tuck-in, Army, Women's, Long Sleeved, White, 10R

8410-01-556-0075—Shirt, Tuck-in, Army, Women's, Long Sleeved, White, 10L

8410-01-556-0080—Shirt, Tuck-in, Army, Women's, Long Sleeved, White, 12R

8410-01-556-0083—Shirt, Tuck-in, Army, Women's, Long Sleeved, White, 12L

8410-01-556-0087—Shirt, Tuck-in, Army, Women's, Long Sleeved, White, 14R

8410-01-556-0090—Shirt, Tuck-in, Army, Women's, Long Sleeved, White, 14L

8410-01-556-0095—Shirt, Tuck-in, Army, Women's, Long Sleeved, White, 16R

8410-01-556-0100—Shirt, Tuck-in, Army, Women's, Long Sleeved, White, 16L

8410-01-556-0110—Shirt, Tuck-in, Army, Women's, Long Sleeved, White, 18R

8410-01-556-0117—Shirt, Tuck-in, Army, Women's, Long Sleeved, White, 18L

8410-01-556-0122—Shirt, Tuck-in, Army, Women's, Long Sleeved, White, 20R

8410-01-556-0134—Shirt, Tuck-in, Army, Women's, Long Sleeved, White, 20L

8410-01-556-0141—Shirt, Tuck-in, Army, Women's, Long Sleeved, White, 22L

8410-01-556-0151—Shirt, Tuck-in, Army, Women's, Long Sleeved, White, 24L

8410-01-556-0056—Shirt, Tuck-in, Army, Women's, Long Sleeved, White, 6R

8410-01-579-3671—Shirt, Army, Women's, Short Sleeve, White, 22 Regular, PGC 03430

8410-01-579-3675—Shirt, Army, Women's, Short Sleeve, White, 24 Regular, PGC 03430

8410-01-579-3680—Shirt, Army, Women's, Short Sleeve, White, 26 Regular, PGC 03430

8410-00-0SH-TA17—Shirt, Army, Women's, Short Sleeve, White, Special Measurement, PGC 3430

8410-01-555-9462—Shirt, Tuck-in, Army, Women's, Long Sleeved, White, 16S

8410-01-555-9463—Shirt, Tuck-in, Army, Women's, Long Sleeved, White, 16R

8410-01-555-9470—Shirt, Tuck-in, Army, Women's, Long Sleeved, White, 16L

8410-01-555-9499—Shirt, Tuck-in, Army, Women's, Long Sleeved, White, 16XL

8410-01-555-9506—Shirt, Tuck-in, Army, Women's, Long Sleeved, White, 16XX

8410-01-555-9510—Shirt, Tuck-in, Army, Women's, Long Sleeved, White, 18S

8410-01-555-9514—Shirt, Tuck-in, Army, Women's, Long Sleeved, White, 18R

8410-01-555-9520—Shirt, Tuck-in, Army, Women's, Long Sleeved, White, 18L

8410-01-555-9525—Shirt, Tuck-in, Army, Women's, Long Sleeved, White, 18XL

8410-01-555-9528—Shirt, Tuck-in, Army, Women's, Long Sleeved, White, 18XXL

8410-01-555-9533—Shirt, Tuck-in, Army, Women's, Long Sleeved, White, 20S

8410-01-555-9537—Shirt, Tuck-in, Army, Women's, Long Sleeved, White, 20R

8410-01-555-9543—Shirt, Tuck-in, Army, Women's, Long Sleeved, White, 20L

8410-01-555-9549—Shirt, Tuck-in, Army, Women's, Long Sleeved, White, 20XL

8410-01-555-9612—Shirt, Tuck-in, Army, Women's, Long Sleeved, White, 20XXL

8410-01-555-9924—Shirt, Tuck-in, Army, Women's, Long Sleeved, White, 22R

8410-01-555-9938—Shirt, Tuck-in, Army, Women's, Long Sleeved, White, 22L

8410-01-555-9947—Shirt, Tuck-in, Army, Women's, Long Sleeved, White, 22XL

8410-01-555-9954—Shirt, Tuck-in, Army, Women's, Long Sleeved, White, 22XXL

8410-01-555-9959—Shirt, Tuck-in, Army, Women's, Long Sleeved, White, 24R

8410-01-555-9974—Shirt, Tuck-in, Army, Women's, Long Sleeved, White, 24L

8410-01-555-9980—Shirt, Tuck-in, Army, Women's, Long Sleeved, White, 24XL

8410-01-555-9984—Shirt, Tuck-in, Army, Women's, Long Sleeved, White, 24XXL

8410-01-555-9987—Shirt, Tuck-in, Army, Women's, Long Sleeved, White, 26R

8410-01-555-9992—Shirt, Tuck-in, Army, Women's, Long Sleeved, White, 26L

8410-01-555-9994—Shirt, Tuck-in, Army, Women's, Long Sleeved, White, 26XL

8410-01-556-0000—Shirt, Tuck-in, Army, Women's, Long Sleeved, White, 26XXL

8410-01-556-0028—Shirt, Tuck-in, Army, Women's, Long Sleeved, White, 14L

8410-01-555-9082—Shirt, Tuck-in, Army, Women's, Long Sleeved, White, 4XS

8410-01-555-9088—Shirt, Tuck-in, Army, Women's, Long Sleeved, White, 4S

8410-01-555-9091—Shirt, Tuck-in, Army, Women's, Long Sleeved, White, 4R

8410-01-555-9094—Shirt, Tuck-in, Army, Women's, Long Sleeved, White, 4L

8410-01-555-9097—Shirt, Tuck-in, Army, Women's, Long Sleeved, White, 6XS

8410-01-555-9100—Shirt, Tuck-in, Army, Women's, Long Sleeved, White, 6S

8410-01-555-9107—Shirt, Tuck-in, Army, Women's, Long Sleeved, White, 6R

8410-01-555-9112—Shirt, Tuck-in, Army, Women's, Long Sleeved, White, 6L

8410-01-555-9117—Shirt, Tuck-in, Army, Women's, Long Sleeved, White, 8XS

8410-01-555-9125—Shirt, Tuck-in, Army, Women's, Long Sleeved, White, 8S

8410-01-555-9133—Shirt, Tuck-in, Army, Women's, Long Sleeved, White, 8R

8410-01-555-9136—Shirt, Tuck-in, Army, Women's, Long Sleeved, White, 8L

8410-01-555-9145—Shirt, Tuck-in, Army, Women's, Long Sleeved, White, 10XS

8410-01-555-9154—Shirt, Tuck-in, Army, Women's, Long Sleeved, White, 10S

8410-01-555-9178—Shirt, Tuck-in, Army, Women's, Long Sleeved, White, 10R

8410-01-555-9387—Shirt, Tuck-in, Army, Women's, Long Sleeved, White, 10L

8410-01-555-9389—Shirt, Tuck-in, Army, Women's, Long Sleeved, White, 10XL

8410-01-555-9391—Shirt, Tuck-in, Army, Women's, Long Sleeved, White, 12S

8410-01-555-9394—Shirt, Tuck-in, Army, Women's, Long Sleeved, White, 12R

8410-01-555-9398—Shirt, Tuck-in, Army, Women's, Long Sleeved, White, 12L

8410-01-555-9404—Shirt, Tuck-in, Army, Women's, Long Sleeved, White, 12XL

8410-01-555-9407—Shirt, Tuck-in, Army, Women's, Long Sleeved, White, 12XX

8410-01-555-9422—Shirt, Tuck-in, Army, Women's, Long Sleeved, White, 14S

8410-01-555-9426—Shirt, Tuck-in, Army, Women's, Long Sleeved, White, 14R

8410-01-555-9435—Shirt, Tuck-in, Army, Women's, Long Sleeved, White, 14XL

8410-01-555-9455—Shirt, Tuck-in, Army, Women's, Long Sleeved, White, 14XX

8410-01-498-0721—Shirt, Dress, Navy, Women's, Quarter Length Sleeve, White, 46/14

8410-01-498-0730—Shirt, Dress, Navy, Women's, Quarter Length Sleeve, White, 46/15

8410-01-498-0731—Shirt, Dress, Navy, Women's, Quarter Length Sleeve, White, 46/16

8410-01-498-0732—Shirt, Dress, Navy, Women's, Quarter Length Sleeve, White, 46/17

8410-01-498-0733—Shirt, Dress, Navy, Women's, Quarter Length Sleeve, White, 48/14

8410-01-498-0735—Shirt, Dress, Navy, Women's, Quarter Length Sleeve, White, 48/15

8410-01-498-0736—Shirt, Dress, Navy, Women's, Quarter Length Sleeve, White, 48/16

8410-01-498-0738—Shirt, Dress, Navy, Women's, Quarter Length Sleeve, White, 48/17

8410-01-498-0757—Shirt, Dress, Navy, Women's, Quarter Length Sleeve, White, 50/14

8410-01-498-0741—Shirt, Dress, Navy, Women's, Quarter Length Sleeve, White, 50/15

8410-01-498-0742—Shirt, Dress, Navy, Women's, Quarter Length Sleeve, White, 50/16

8410-01-498-0743—Shirt, Dress, Navy, Women's, Quarter Length Sleeve, White, 50/17

8410-01-498-0744—Shirt, Dress, Navy, Women's, Quarter Length Sleeve, White, 50/18

8410-01-498-0750—Shirt, Dress, Navy, Women's, Quarter Length Sleeve, White, 52/14

8410-01-498-0751—Shirt, Dress, Navy, Women's, Quarter Length Sleeve, White, 52/15

8410-01-498-0758—Shirt, Dress, Navy, Women's, Quarter Length Sleeve, White, 52/16

8410-01-498-0759—Shirt, Dress, Navy, Women's, Quarter Length Sleeve, White, 52/17

8410-01-512-7489—Shirt, Dress, Navy, Women's, Quarter Length Sleeve, White, 44/14

8410-01-512-7497—Shirt, Dress, Navy, Women's, Quarter Length Sleeve, White, 44/15

8410-01-512-7502—Shirt, Dress, Navy, Women's, Quarter Length Sleeve, White, 44/16

8410-01-069-6612—Shirt, Dress, Navy, Women's, Short Sleeved, White, 32x13

8410-01-069-6613—Shirt, Dress, Navy, Women's, Short Sleeved, White, 34x12

8410-01-069-6614—Shirt, Dress, Navy, Women's, Short Sleeved, White, 34x13

8410-01-069-6615—Shirt, Dress, Navy, Women's, Short Sleeved, White, 34x14

8410-01-069-6616—Shirt, Dress, Navy, Women's, Short Sleeved, White, 34x15

8410-01-069-6617—Shirt, Dress, Navy, Women's, Short Sleeved, White, 36x13

8410-01-069-6618—Shirt, Dress, Navy, Women's, Short Sleeved, White, 36x14

8410-01-069-6619—Shirt, Dress, Navy, Women's, Short Sleeved, White, 36x15

8410-01-069-6620—Shirt, Dress, Navy, Women's, Short Sleeved, White, 38x13

8410-01-069-6621—Shirt, Dress, Navy, Women's, Short Sleeved, White, 38x14

8410-01-069-6622—Shirt, Dress, Navy, Women's, Short Sleeved, White, 38x15

8410-01-069-6623—Shirt, Dress, Navy, Women's, Short Sleeved, White, 38x16

8410-01-069-6624—Shirt, Dress, Navy, Women's, Short Sleeved, White, 40x14

8410-01-069-6625—Shirt, Dress, Navy, Women's, Short Sleeved, White, 40x15

8410-01-069-6626—Shirt, Dress, Navy, Women's, Short Sleeved, White, 40x16

8410-01-069-6627—Shirt, Dress, Navy, Women's, Short Sleeved, White, 42x16

8410-01-349-9356—Shirt, Dress, Navy, Women's, Short Sleeved, White, 42x15

Mandatory Source(s) of Supply: Middle Georgia Diversified Industries, Inc., Dublin, GA

Contracting Activity: Defense Logistics Agency Troop Support

Amy B. Jensen,
Director, Business Operations.

[FR Doc. 2017-09151 Filed 5-4-17; 8:45 am]

BILLING CODE 6353-01-P